DEPARTMENT OF LABOR

Occupational Safety and Health Administration

[Docket No. OSHA-2015-0005]

Federal Advisory Council on Occupational Safety and Health (FACOSH)

AGENCY: Occupational Safety and Health Administration (OSHA), Labor.

ACTION: Announcement of FACOSH meeting and member appointments.

SUMMARY: The Federal Advisory Council on Occupational Safety and Health (FACOSH) will meet Thursday, July 16, 2015, in Washington, DC. This Federal Register notice also announces the appointment of six individuals to serve on FACOSH.

DATES: FACOSH meeting: FACOSH will meet from 1 to 4:30 p.m., Thursday, July 16, 2015.

Submission of comments, requests to speak, speaker presentations, and requests for special accommodations: You must submit (postmark, send, transmit, deliver) comments, requests to speak at the FACOSH meeting, speaker presentations, and requests for special accommodations to attend the meeting by Thursday, July 2, 2015.

ADDRESSES: FACOSH meeting: FACOSH will meet in Rooms N-4437 A-D, U.S. Department of Labor, 200 Constitution Avenue NW., Washington, DC 20210.

Submission of comments, requests to speak, and speaker presentations: You may submit comments, requests to speak at the FACOSH meeting, and speaker presentations using one of the following methods:

Electronically: You may submit materials, including attachments, electronically at http://www.regulations.gov, the Federal eRulemaking Portal. Follow the online instructions for making submissions;

Facsimile: If your submission, including attachments, does not exceed 10 pages, you may fax it to the OSHA Docket Office at (202) 693-1648; or

Mail, express delivery, hand delivery, or messenger/courier service: You may submit materials to the OSHA Docket Office, Docket No. OSHA-2015-0005, Room N-2625, U.S. Department of Labor, 200 Constitution Avenue NW., Washington, DC 20210; telephone (202) 693-2350 (OSHA TTY (877) 889-5627). Deliveries (hand, express mail, messenger/courier service) are accepted during the Department's and the OSHA Docket Office's normal business hours, 8:15 a.m.-4:45 p.m., weekdays.

Requests for special accommodations to attend the FACOSH meeting: You may submit requests for special accommodations by hard copy, telephone, or email to Ms. Gretta Jameson, OSHA Office of Communications, Room N-3647, U.S. Department of Labor, 200 Constitution Avenue NW., Washington, DC 20210; telephone (202) 693-1999; email jameson.gretta@dol.gov.

Instructions: All submissions must include the agency name and docket number for this Federal Register notice. Because of security-related procedures, submissions by regular mail may result in a significant delay in their receipt. Please contact the OSHA Docket Office for information about security procedures for making submissions by hand delivery, express delivery, and messenger/courier service. For additional information on submitting comments, requests to speak, and speaker presentations, see the SUPPLEMENTARY INFORMATION section below.

OSHA will post comments, requests to speak, and speaker presentations, including any personal information provided, without change at http://www.regulations.gov. Therefore, OSHA cautions individuals about submitting certain personal information, such as Social Security numbers and birthdates.

FOR FURTHER INFORMATION CONTACT: For press inquiries: Mr. Frank Meilinger, Director, OSHA Office of Communications, Room N-3647, U.S. Department of Labor, 200 Constitution Avenue NW., Washington, DC 20210; telephone (202) 693-1999; email meilinger.francis2@dol.gov.

For general information: Mr. Francis Yebesi, Director, OSHA Office of Federal Agency Programs, Room N-3622, U.S. Department of Labor, 200 Constitution Avenue NW., Washington, DC 20210; telephone (202) 693-2122; email ofap@dol.gov.

SUPPLEMENTARY INFORMATION: FACOSH will meet July 16, 2015, in Washington, DC. Some FACOSH members may attend the meeting electronically. The meeting is open to the public. The tentative agenda for the FACOSH meeting includes:

• Updates from FACOSH subcommittees;

• OSHA's Voluntary Protection Programs;

• Protecting federal workers from retaliation; and

• Presidential POWER Initiative.

FACOSH is authorized by 5 U.S.C. 7902; section 19 of the Occupational Safety and Health Act of 1970 (OSH Act) (29 U.S.C. 668); and Executive Order 11612, as amended, to advise the Secretary of Labor (Secretary) on all matters relating to the occupational safety and health of federal employees. This includes providing advice on how to reduce and keep to a minimum the number of injuries and illnesses in the federal workforce, and how to encourage each federal Executive Branch department and agency to establish and maintain effective occupational safety and health programs.

OSHA transcribes and prepares detailed minutes of FACOSH meetings. The Agency puts meeting transcripts and minutes plus other materials presented at the FACOSH meeting in the public record of the meeting, which is posted at http://www.regulations.gov.

Announcement of FACOSH Appointments

FACOSH is comprised of 16 members; eight representing federal agency management (management members) and eight from labor organizations representing federal employees (labor members). FACOSH members generally serve staggered three-year terms. The Secretary has appointed the following individuals to serve on FACOSH:

Labor members:

• Gregory Junemann, International Federation of Professional and Technical Engineers; and

• Milagro Rodríguez, American Federation of Government Employees.

Management members:

• Catherine Emerson, U.S. Department of Homeland Security;

• Gary Helmer, National Transportation Safety Board;

• Richard Williams, National Aeronautics and Space Administration; and

• Patricia Worthington, U.S. Department of Energy.

Public Participation, Submissions, and Access to Public Record

FACOSH meetings: FACOSH meetings are open to the public. Individuals attending meetings at the U.S. Department of Labor must enter the building at the Visitors' Entrance, 3rd and C Streets NW., and pass through building security. Attendees must have valid government-issued photo identification to enter. For additional information about building security measures, and requests for special accommodations for attending the FACOSH meeting, please contact Ms. Jameson (see ADDRESSES section).

Submission of requests to speak and speaker presentations. You may submit a request to speak to FACOSH by one of the methods listed in the ADDRESSES section. Your request must state:

• The amount of time you request to speak;

• The interest you represent (e.g., organization name), if any; and,

• A brief outline of your presentation.

PowerPoint speaker presentations and other electronic materials must be compatible with Microsoft Office 2010 formats. The FACOSH chair may grant requests to address FACOSH at his discretion, and as time and circumstances permit.

Submission of written comments. You also may submit written comments, including data and other information, using any of the methods listed in the ADDRESSES section. Your submissions, including attachments and other materials, must identify the agency name and the OSHA docket number for this Federal Register notice. You may supplement electronic submissions by uploading documents electronically. If you wish to submit hard copies of supplementary documents instead, you must submit them to the OSHA Docket Office following the instructions in the ADDRESSES section. The additional materials must clearly identify your electronic submission by name, date, and docket number. OSHA will provide copies of your submissions to FACOSH members.

Because of security-related procedures, submissions by regular mail may cause a significant delay in their receipt. For information about security procedures concerning submissions by hand, express delivery, and messenger/courier service, please contact the OSHA Docket Office (see ADDRESSES section).

Access to submissions and public record. OSHA places comments, requests to speak, speaker presentations, meeting transcripts and minutes, and other documents presented at the FACOSH meeting in the public record without change. Those documents also may be available online at http://www.regulations.gov. Therefore, OSHA cautions individuals about submitting certain personal information, such as Social Security numbers and birthdates.

To read or download documents in the public record, go to Docket No. OSHA-2015-0005 at http://www.regulations.gov. Although all meeting documents are listed in the index of that Web page, some documents (e.g., copyrighted materials) are not publicly available to read or download there. All meeting documents, including copyrighted materials, are available at the OSHA Docket Office. Please contact the OSHA Docket Office for additional information about access to documents in the docket that are not publicly available online.

Information about using http://www.regualtions.gov to make submissions and access the record of FACOSH meetings is available at that Web page. Please contact the OSHA Docket Office for assistance with making submissions and obtaining documents in the FACOSH record, and for information about materials that not available on http://www.regulations.gov.

Electronic copies of this Federal Register notice are available at http://www.regulations.gov. This notice, as well as news releases and other relevant information about FACOSH, also is available at OSHA's Web page at http://www.osha.gov/.

Authority and Signature

David Michaels, Ph.D., MPH, Assistant Secretary of Labor for Occupational Safety and Health, directed the preparation of this notice pursuant to 5 U.S.C. 7902; 5 U.S.C. App. 2; 29 U.S.C. 668; Executive Order 12196 (45 CFR 12629 (2/27/1980)), as amended; 41 CFR part 102-3; and Secretary of Labor's Order No. 1-2012 (77 FR 3912 (1/25/2012)).

Signed at Washington, DC, on May 29, 2015.
David Michaels,
Assistant Secretary of Labor for Occupational Safety and Health.

[FR Doc. 2015-14001 Filed 6-8-15; 8:45 am]

BILLING CODE 4510-26-P